DEPARTMENT OF COMMERCE

International Trade Administration

[A-570-846]

Continuation of Antidumping Duty Order: Brake Rotors from the People's Republic of China

AGENCY: Import Administration, International Trade Administration, Department of Commerce.

ACTION: Notice of Continuation of Antidumping Duty Order: Brake Rotors from the People's Republic of China.

SUMMARY: On July 9, 2002, the Department of Commerce (“the Department”), pursuant to sections 751(c) and 752 of the Tariff Act of 1930, as amended (“the Act”), determined that revocation of the antidumping duty order on brake rotors from the People's Republic of China (“PRC”) would be likely to lead to continuation or recurrence of dumping.¹ On August 2, 2002, the International Trade Commission (“the Commission”), pursuant to section 751(c) of the Act, determined that revocation of the antidumping duty order on brake rotors from the PRC would be likely to lead to continuation or recurrence of material injury to an industry in the United States within a reasonably foreseeable time.² Therefore, pursuant to 19 CFR 351.218(f)(4), the Department is publishing notice of the continuation of the antidumping duty order on brake rotors from the PRC.

¹ Final Results of Expedited Sunset Review: Brake Rotors from the People's Republic of China, 67 FR 45458 (July 9, 2002).

² Brake Rotors from China, 67 FR 50459 (August 2, 2002).

Effective Date: August 14, 2002.

FOR FURTHER INFORMATION CONTACT: Martha V. Douthit or James Maeder, Office of Policy for Import Administration, International Trade Administration, U.S. Department of Commerce, 14th Street and Constitution Ave., NW, Washington, D.C. 20230; telephone: (202) 482-5050 or (202) 482-3330, respectively.

SUPPLEMENTARY INFORMATION:

Background:

On March 1, 2002, the Department initiated, and the Commission instituted, a sunset review of the antidumping duty order on brake rotors from PRC, pursuant to section 751(c) of the Act.³ As a result of its review, the Department found that revocation of the antidumping duty order would be likely lead to continuation or recurrence of dumping and notified the Commission of the magnitude of the margins likely to prevail were the order to be revoked.⁴

³ Antidumping and Countervailing Duties: Five Year Reviews, 67 FR 9439 (March 1, 2002), and Brake Rotors From China, 67 FR 9462 (March 1, 2002).

⁴ Final Results of Expedited Sunset Review: Brake Rotors from the People's Republic of China, 67 FR 45458 (July 9, 2002).

On August 2, 2002, the Commission determined, pursuant to section 751(c) of the Act, that revocation of the antidumping duty order on brake rotors from the PRC would be likely to lead to continuation or recurrence of material injury to an industry in the United States within a reasonably foreseeable time.⁵

⁵ See Brake Rotors from China, 67 FR 50459 (August 2, 2002), and USITC Publication 3528 (July 2002), Brake Rotors From China: Investigation No. 731-TA-744 (Review).

Scope:

The products covered by this antidumping duty order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans and recreational vehicles under “one ton and a half,” and light trucks designated as “one ton and a half.” Finished brake rotors are those that are ready for sale and installation without any further operations. Semi-finished rotors are those on which the surface is not entirely smooth, and have undergone some drilling. Unfinished rotors are those which have undergone some grinding or turning. These brake rotors are for motor vehicles, and do not contain in the casting a logo of an original equipment manufacturer (“OEM”) which produces vehicles sold in the United States (e.g., General Motors, Ford, Chrysler, Honda, Toyota, Volvo). Brake rotors covered in the order are not certified by OEM producers of vehicles sold in the United States. The scope also includes composite brake rotors that are made of gray cast iron, which contain a steel plate, but otherwise meet the above criteria. Excluded from the scope of the order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).

Brake rotors are currently classifiable under subheading 8708.39.50.10 of the Harmonized Tariff Schedule of the United States (“HTSUS”). Although the HTSUS subheading is provided for convenience and customs purposes, the written description of the merchandise subject to the order is dispositive.

Determination:

As a result of the determinations by the Department and the Commission that revocation of this antidumping duty order would be likely to lead to continuation or recurrence of dumping and material injury to an industry in the United States, pursuant to section 751(d)(2) of the Act, the Department hereby orders the continuation of the antidumping duty order on brake rotors from the PRC. The Department will instruct Customs to continue to collect antidumping at the rates in effect at the time of entry for all imports of subject merchandise. The effective date of continuation of this order will be the date of publication in the Federal Register of this Notice of Continuation. Pursuant to section 751(c)(2) and 751(c)(6) of the Act, the Department intends to initiate the next five-year review of this order not later than July 2007.

Dated: August 8, 2002.
Faryar Shirzad,
Assistant Secretary for Import Administration.

[FR Doc. 02-20643 Filed 8-13-02; 8:45 am]

BILLING CODE 3510-DS-S